DEPARTMENT OF COMMERCE

National Oceanic and Atmospheric Administration

[RTID 0648-XD756]

Fisheries of the Caribbean, Gulf of Mexico, and South Atlantic; Exempted Fishing Permit

AGENCY: National Marine Fisheries Service (NMFS), National Oceanic and Atmospheric Administration (NOAA), Commerce.

ACTION: Notice of receipt of an application for exempted fishing permit; request for comments.

SUMMARY: NMFS announces the receipt of an application for an exempted fishing permit (EFP) from the Florida Fish and Wildlife Conservation Commission (FWC). If granted, the EFP would authorize limited recreational harvest of red snapper outside of any Federal recreational season in South Atlantic Federal waters and exempt that harvest from the red snapper recreational bag and possession limits, recreational annual catch limits (ACLs), and accountability measures (AMs). FWC's project is intended to test alternative recreational management strategies that could be used by the South Atlantic Fishery Management Council (Council) to reduce the numbers of discards of red snapper and other federally managed snapper-grouper species, create additional opportunities to participate in sustainable recreational harvest, and improve angler satisfaction.

DATES: Written comments must be received on or before April 22, 2024.

ADDRESSES: You may submit comments on the application, identified by [NOAA-NMFS-2024-0036] by any of the following methods:

• Electronic Submission: Submit all electronic public comments via the Federal e-Rulemaking Portal. Visit https://www.regulations.gov and type [NOAA-NMFS-2024-0036] in the Search box. Click the “Comment” icon, complete the required fields, and enter or attach your comments.

• Mail: Rick DeVictor, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/recreational-fishing/south-atlantic-red-snapper-exempted-fishing-permit-applications. This notice discuses application 2 on the website.

FOR FURTHER INFORMATION CONTACT: Caroline Potter, 727-824-5305; email: caroline.potter@noaa.gov.

SUPPLEMENTARY INFORMATION: The EFP is requested under the authority of the Magnuson-Stevens Fishery Conservation and Management Act (Magnuson-Stevens Act; 16 U.S.C. 1801 et seq.), and regulations at 50 CFR 600.745(b) concerning exempted fishing.

The project described in this EFP request is one of several projects that NMFS has recommended for funding based on a notice of funding opportunity that NMFS published last fall, seeking projects that would explore new approaches to better understand and reduce red snapper dead discards and increase fishing opportunities in the South Atlantic snapper-grouper fishery.

The most recent South Atlantic red snapper stock assessment (Southeast Data, Assessment, and Review (SEDAR) 73, 2021) indicates that the South Atlantic red snapper stock is undergoing overfishing and is overfished. Discard mortality continues to be the primary source of fishing mortality, with a high number of discards coming from the recreational sector. Therefore, NMFS has identified a need for improved data to support the evaluation of alternative management strategies that could be used by the Council to reduce recreational discards of red snapper and other managed snapper-grouper species, ensure opportunities for sustainable harvest, and improve angler satisfaction.

Considering this need, FWC has proposed this project to accomplish the following objectives: (1) Collaborate with recreational vessel captains and recreational fishermen to collect catch and discard information within the snapper-grouper fishery; (2) Recruit charter vessel and private recreational vessel captains to test a unique snapper-grouper aggregate recreational bag limit and its impact on reducing the magnitude of regulatory discards; (3) Allow project participants to harvest red snapper outside of the Federal red snapper recreational season, accompanied by a mandatory reporting requirement and provisions for validation; (4) Develop a unique web-based application to record information from project participants; (5) Develop an education course required for all project participants; and (6) Evaluate recreational fishermen satisfaction through pre- and post-participation surveys.

The EFP would begin on July 1, 2024, and end on June 30, 2025. The project location would occur offshore of the east coast of Florida and include state and Federal waters from the Florida/Georgia state line south to a line running east from the NASA General Assembly Building in Cape Canaveral, Florida. For this project, FWC proposes to create a “Study Fleet” of five private recreational vessels and five charter vessels that would each take up to three fishing trips per quarter (a 3-month project period). The sampling period for the entire study would be 12 months and thus each quarter would last 3 months. All Study Fleet fishing trips would be limited to a maximum of six recreational fishermen per vessel (excluding the captain and crew of charter vessels) and all recreational fishermen onboard a selected vessel would be participants in the study. All recreational fishermen on project vessels would be required to fish with a single hook rig with a circle hook. The FWC Study Fleet would be allowed to retain up to a maximum vessel limit of 60 South Atlantic red snapper per day, regardless of the number of persons onboard the vessel. In addition, recreational fishermen onboard a vessel would be allowed to harvest no more than 15 fish under a unique snapper-grouper aggregate bag limit per person per day in state and Federal waters. All recreational fishermen onboard the selected vessels would be required to keep all snapper-grouper species that meet legal requirements, such as size limits, and would retain all red snapper caught, up to the 60 red snapper vessel limit, while trying to obtain the unique 15-fish snapper-grouper aggregate bag limit. Each recreational fisherman on a Study Fleet vessel trip would be required to stop directed snapper-grouper fishing once the unique snapper-grouper aggregate bag limit of 15-fish has been met or the vessel limit of 60 red snapper has been met, whichever occurs first. After meeting one of these limits, participants may target other species such as coastal migratory pelagics and dolphinfish, but they would be required to stop directed snapper-grouper fishing for the remainder of the trip.

If approved, the EFP would exempt recreational fishermen participating in FWC's Study Fleet from the Federal regulations at 50 CFR 622.183(b)(5) (recreational sector closures for red snapper), 50 CFR 622.187(b)(9) (bag and possession limits for red snapper), and 50 CFR 622.193(y)(2) (ACLs and AMs for red snapper). The FWC is not requesting exemptions from any Federal regulations other than these. Participants would have to abide by all fishery regulations otherwise not exempted from this study.

Under the EFP, the unique 15-fish snapper-grouper aggregate recreational bag limit requested by FWC is as follows:

• Only 1 fish can be gag, black grouper, or scamp.

• Up to 2 fish can be red grouper, yellowfin grouper, yellowmouth grouper, coney, graysby, red hind, or rock hind.

• Only 1 fish can be red porgy, blueline tilefish, or golden tilefish.

• Only 1 fish can be greater amberjack.

• Up to 3 fish can be lesser amberjack, almaco jack, or banded rudderfish.

• Up to 5 fish can be black sea bass.

• Up to 5 fish can be gray triggerfish.

• Up to 10 fish can be grunts.

• Up to 10 fish can be Atlantic spadefish or bar jack.

• Up to 10 fish can be porgies (excluding red porgy).

• Up to 10 fish can be schoolmaster snapper, gray snapper, lane snapper, yellowtail snapper, queen snapper, silk snapper, or blackfin snapper.

• Up to 5 fish can be vermilion snapper, cubera snapper, or mutton snapper.

Until the unique snapper-grouper aggregate bag limit is reached or the red snapper vessel limit is reached, all species within the snapper-grouper fishery, except those with regulatory closures, could be recreationally harvested by participants. However, species not listed above would not count towards the FWC's proposed 15-fish snapper-grouper aggregate recreational bag limit. Should a regulatory closure occur for any species (other than red snapper), participants would be prohibited to harvest those species. This unique aggregate bag limit is intended to cause recreational fishermen to reach their daily bag limit faster which would then result in them stopping fishing for snapper-grouper species. This would then lead to reduced discards and enhanced fisherman satisfaction across the snapper-grouper recreational sector. Throughout the duration of the proposed project, recreational fishermen would harvest a maximum of 7,200 South Atlantic red snapper on Study Fleet trips.

If the project is approved, FWC would solicit applications from captains of charter vessels and private recreational vessels that fish within the proposed study location. Charter vessel captains are defined as someone who will be responsible for safe operation of the vessel during FWC Study Fleet trips and is licensed by the United States Coast Guard to carry passengers for hire and has one or more passengers onboard who are paying a fee to take or pursue an organism. Project charter vessels would need to have a valid Federal Charter Vessel/Headboat Permit for South Atlantic Snapper-Grouper. For this project, private recreational captains are defined as someone who will be responsible for the safe operation of the vessel during FWC Study Fleet trips and, if born after January 1, 1988, has successfully completed an approved boating safety course and obtained a Boating Safety Education Identification Card issued by FWC. A captain may be exempt from these requirements if they are licensed by the United States Coast Guard as master of a vessel or are a nonresident that has completed a National Association of State Boating Law Administrators approved boater safety course or equivalent examination from another state. Any private recreational captain or charter vessel captain that does not have a resource violation as determined by FWC would be eligible to participate in the FWC Study Fleet.

From the applications received from the public by FWC, FWC would select five private vessels and five charter vessels to be part of the FWC Study Fleet each quarter. Vessels would partly be selected based on the area intended to be fished, vessel type, and the homeport of these vessels. The selection criteria are intended to result in a comprehensive coverage of the study location. Both charter and private vessels would be limited to a maximum of six recreational fishermen (excluding the captain and crew of charter vessels) per designated fishing trip. The terms of the EFP would apply to all captains and recreational fishermen on the selected vessels during FWC Study Fleet trips. All charter vessels would be required to have the Federal Charter Vessel/Headboat Permit for South Atlantic Snapper-Grouper species and a Florida Saltwater Charter License prior to participating in the FWC Study Fleet. All recreational fishermen fishing from private vessels would be required to have a valid Florida recreational fishing license (or be exempt) and be signed up for Florida's State Reef Fish Survey prior to fishing aboard a trip as part of the FWC Study Fleet. All project participants fishing in the FWC Study Fleet would be required to view and complete an online educational course provided by the FWC. The EFP would only apply to the captains and vessels that are selected to be a part of the FWC Study Fleet. Therefore, FWC would be able to account for and provide NMFS with a list of participants (e.g., state license, registration of each vessel and vessel name during designated fishing trips, name of participants and contact information, etc.) to be covered under the EFP before operations begin under the EFP.

Prior to taking a FWC Study Fleet fishing trip, each captain would have to coordinate the date/dates of the trip with FWC. Using their unique FWC provided identification number, captains would be required to notify FWC 24 hours prior to a planned project trip and report the date and state registration number of the vessel they intend to fish from in order to receive an FWC authorization document, which must be available to present to law enforcement if requested at-sea or dockside. When the FWC Study Fleet vessel returns to port, the captain must hail in and let FWC know the estimated time and location of arrival. Upon return to port from a trip, the captain and all recreational fishermen aboard a project vessel would be required to allow FWC to collect biological samples from harvested fish and conduct interviews. All captains would be required to report data through an FWC web-based application about their fishing trip within 48 hours of returning to port.

NMFS finds the application warrants further consideration based on a preliminary review. Possible conditions the agency may impose on the EFP, if granted, include but are not limited to, a prohibition on fishing within marine protected areas, marine sanctuaries, or special management zones without additional authorization.

A final decision on issuance of the EFP will depend on NMFS' review of public comments received on the application, consultations with the appropriate fishery management agencies of the affected states, the Council, and the U.S. Coast Guard, and a determination that the activities to be taken under the EFP are consistent with all other applicable laws.

Authority: 16 U.S.C. 1801 et seq.

Dated: April 1, 2024.
Everett Wayne Baxter,
Acting Director, Office of Sustainable Fisheries, National Marine Fisheries Service.

[FR Doc. 2024-07272 Filed 4-4-24; 8:45 am]

BILLING CODE 3510-22-P